DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 2, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Farm Service Agency

Title: Emergency Relief Program 2022 (ERP 2022).

OMB Control Number: 0560-0316.

Summary of Collection: Title I of the Disaster Relief Supplemental Appropriations Act, 2023 (Division N of the Consolidated Appropriations Act, 2023; Pub. L. 117-328) provides $3.741715 billion for necessary expenses related losses of revenue, quality, or production of crops (including milk, on-farm stored commodities, crops prevented from planting in 2020 and 2021, and harvested adulterated wine grapes), trees, bushes, and vines, as a consequence of droughts, wildfires, hurricanes, tornadoes, floods, derechos, excessive heat, winter storms, freeze, including a polar vortex, smoke exposure, quality losses of crops, and excessive moisture occurring in calendar year 2022. FSA is directed by USDA to use part of this funding to provide assistance to eligible crop producers through ERP 2022.

Need and Use of the Information: The information submitted by respondents is used by FSA to determine eligibility and issue payments to eligible applicants under ERP 2022. ERP Track 1 uses a streamlined application process for losses for which data is already on file with FSA and RMA. Producers certify on the application that the loss was due, in whole or in part, to a qualifying disaster event and indicate that they agree to obtain crop insurance or NAP coverage for the next two available crop years, which is a statutory requirement for payment eligibility. Producers with a Whole Farm Revenue Protection policy or whole-farm unit must also indicate the percentage attributed to specialty crops to implement payment limitation provisions as required by law.

Track 2 assists producers for other eligible crop losses through a revenue-based approach. Track 2 applicants complete an application form to indicate their benchmark and disaster year revenue, and percentage from specialty crops. Track 2 producers must also submit FSA-525, Crop Insurance and/or NAP Coverage Agreement, to certify that they will purchase federal crop insurance or NAP coverage as required by law. FSA is also providing optional worksheets (FSA-525-A and FSA-525-B) that Track 2 applicants can use to assist in calculating their benchmark and disaster year revenue. Using a revenue-based approach also reflects losses of production and quality of crops without requiring the more extensive calculations and documentation required under some previous programs addressing individual crop losses due to disaster events. Using a decrease in gross revenue in the calculation of Track 2 payments also captures a producer's loss due to a qualifying disaster event regardless of whether the loss occurs before harvest or after harvest while the crop is in storage, further streamlining the delivery of assistance.

Producers may also need to submit additional forms if not already on file with FSA, including forms to establish their eligibility for a higher payment limitation or payment rate, if applicable.

Description of Respondents: Farms.

Number of Respondents: 230,000.

Frequency of Responses: Reporting; Other (one-time).

Total Burden Hours: 100,072.

Rachelle Ragland-Greene,
Acting Departmental Information Collection Clearance Officer.

[FR Doc. 2024-06971 Filed 4-1-24; 8:45 am]

BILLING CODE 3410-05-P